DEPARTMENT OF AGRICULTURE

Farm Service Agency

Information Collection Request; Direct Loan Making

AGENCY: Farm Service Agency, USDA.

ACTION: Notice; request for comments.

SUMMARY: In accordance with the Paperwork Reduction Act (PRA) of 1995, the Farm Service Agency (FSA) is requesting comments from all interested individuals and organizations on a revision and an extension of a currently approved information collection associated with Direct Loan Making Program. The collected information is used in eligibility and feasibility determinations on farm loan applications.

DATES: We will consider comments that we receive by April 8, 2019.

ADDRESSES: We invite you to submit comments on this notice. In your comments, please include date, volume, and page number of this issue of the Federal Register. You may submit comments through the Federal eRulemaking Portal website (http://www.regulations.gov) by following the instructions on that website for submitting comments electronically.

You may also send comments to the Desk Officer for Agricultures, Office of the Information and Regulatory Affairs, Office of Management and Budget, Washington, DC 20503. Comments will be available for public inspection online at http://www.regulations.gov.

FOR FURTHER INFORMATION CONTACT: For specific questions related to the collection activities or to obtain a copy of the information collection request package, please contact Russ Clanton, (202) 690-0214; russ.clanton@wdc.usda.gov.

SUPPLEMENTARY INFORMATION:

Title: Farm Loan Programs, Direct Loan Making.

OMB Control Number: 0560-0237.

Expiration Date: May 31, 2019.

Type of Request: Revision and Extension.

Abstract: FSA's Farm Loan Programs provide loans to family farmers to purchase real estate and equipment, and to finance agricultural production. Direct Loan Making and Direct Farm Ownership Microloan (DFOML) regulations in 7 CFR part 764 provide the requirements and process for determining an applicant's eligibility for a direct loan.

The burden hours decreased by 125,832 hours since the last OMB approval. Specifically, the annual number of responses decreased slightly by 43, the number of respondents increased by 2,438 in the collection due to more borrowers participating in the Direct Loan Making Program and a large correction fixed an error in the prior calculation.

Also, the Farm Storage Facility Loan Program, which is exempted from PRA as specified in 2014 Farm Bill, is no longer included in the collection. The travel times have been removed from the request. The respondents go to the county offices to do regular and customary business with FSA for loans; this means no travel times is required specifically for the information collection and therefore, it is no longer included in the burden hour reporting.

For the following estimated total annual burden on respondents, the formula used to calculate the total burden hour is the estimated average time per responses hours multiplied by the estimated total annual responses.

Estimate of Average Time to Respond: Public reporting burden for the information collection is estimated to average 0.312 hours per response.

Type of Respondents: Individuals or households, businesses or other for-profit farms.

Estimated Annual Number of Respondents: 184,871.

Estimated Number of Reponses per Respondent: 3.7.

Estimated Total Annual Responses: 698,394.

Estimated Average Time per Response: 0.312 hours.

Estimated Total Annual Burden on Respondents: 217,927 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Steven Peterson,
Acting Administrator, Farm Service Agency.

[FR Doc. 2019-01071 Filed 2-4-19; 8:45 am]

BILLING CODE 3410-05-P